DEPARTMENT OF TRANSPORTATION

Federal Aviation Administration

[Summary Notice No. PE-2007-40]

Petition for Exemption; Summary of Petition Received

AGENCY: Federal Aviation Administration (FAA), DOT.

ACTION: Notice of petition for exemption received.

SUMMARY: This notice contains a summary of a petition seeking relief from specified requirements of 14 CFR. The purpose of this notice is to provide the public an opportunity to comment on the petition for exemption. Neither publication of this notice nor the inclusion or omission of information in the summary is intended to affect the legal status of the petition or its final disposition.

DATES: Comments on this petition must indicate the docket number and must be received on or before November 23, 2007.

ADDRESSES: You may send comments which indicate Docket Number FAA-2007-0042 by any of the following methods:

• Government-wide rulemaking Web site: Go to http://www.regulations.gov and follow the instructions for submitting comments.

• Mail: Send comments to the Docket Management Facility; U.S. Department of Transportation, 1200 New Jersey Avenue, SE., West Building Ground Floor, Room W12-140, Washington, DC 20590.

• Fax: Fax comments to the Docket Management Facility at 202-493-2251.

• Hand Delivery: Bring comments to the Docket Management Facility, U.S. Department of Transportation, 1200 New Jersey Avenue, SE., West Building Ground Floor, Room W12-140, Washington, DC 20590 between 9 a.m. and 5 p.m., Monday through Friday, except Federal holidays.

Privacy: We will post all comments we receive to http://www.regulations.gov in their entirety, including any personal information you provide. Using the search function of our docket Web site, anyone can find and read the comments received into any of our dockets, including the name of the individual sending the comment (or signing the comment for an association, business, or labor union).

Docket: To read the entire petition for exemption, background documents, or comments received, go to http://www.regulations.gov or to the Docket Management Facility, U.S. Department of Transportation, 1200 New Jersey Avenue, SE., West Building Ground Floor, Room W12-140, Washington, DC 20590 between 9 a.m. and 5 p.m., Monday through Friday, except Federal holidays.

FOR FURTHER INFORMATION CONTACT: Madeleine Kolb, Transport Airplane Directorate, FAA at 425-227-1134.

This notice is published pursuant to 14 CFR 11.85.

Pamela Hamilton-Powell,
Director, Office of Rulemaking.

Petition for Exemption

Docket No.: FAA-2007-0042.

Petitioner: The Boeing Company.

Section of 14 CFR Affected: §§ 25.305, 25.307(a), 25.601, 25.603(c), 25.613(a)(b), and 25.1103(d).

Description of relief sought: The exemption, if granted, would affect Boeing 737NG airplanes delivered prior to May 2007 and would permit installation of a new engine configuration, improved thrust reverser cascade configuration, or other changes without requiring a complete finding of compliance for the affected areas.

[FR Doc. E7-21621 Filed 11-1-07; 8:45 am]

BILLING CODE 4910-13-P